DEPARTMENT OF THE INTERIOR

Bureau of Land Management

[OR-050-1020-MJ; HAG 07-0021]

John Day/Snake Resource Advisory Council; Meeting

AGENCY: Bureau of Land Management (BLM), Prineville District.

ACTION: Notice of public meeting—John Day/Snake Resource Advisory Council.

SUMMARY: In accordance with the Federal Land Policy and Management Act of 1976 (and the Federal Advisory Committee Act of 1972, the U.S. Department of the Interior, BLM John Day/Snake Resource Advisory Council, will meet on November 27, 2006, at the Oxford Suites, 2400 SW. Court Place in Pendleton, OR 97801.

The meeting time will be from approximately 9 a.m. to 4 p.m. A public comment will begin at 1 pm and end at 1:15 p.m. (Pacific Standard Time). The meeting may include such topics as off-highway vehicles, noxious weeds, planning, Sage-grouse, and other matters as may reasonably come before the council.

Meeting Procedures: The meeting is open to the public. The public may present written comments to the John Day/Snake Resource Advisory Council. Depending on the number of persons wishing to provide oral comments and agenda topics to be covered, the time to do so may be limited. Individuals who plan to attend and need special assistance such as sign language interpretation, tour transportation or other reasonable accommodations, should contact the BLM representative indicated below. For a copy of the information to be distributed to the Council members, please submit a written request to the Prineville BLM District Office 10 days prior to the meeting.

FOR FURTHER INFORMATION CONTACT: Additional information concerning the John Day/Snake Resource Advisory Council may be obtained from Virginia Gibbons, Public Affairs Specialist, Prineville BLM District Office, 3050 NE. Third Street, Prineville, Oregon 97754, (541) 416-6647 or e-mail vgibbons@or.blm.gov.

Dated: November 9, 2006.
A. Barron Bail,
District Manager.

[FR Doc. E6-19366 Filed 11-15-06; 8:45 am]

BILLING CODE 4310-33-P